DEPARTMENT OF COMMERCE

National Telecommunications and Information Administration

RIN 0660-AA16

Docket Number: 0612242667—7150—02

Instructions to Assist Manufacturers Submitting Digital-to-Analog Converter Box Test Results and Sample Equipment for Certification.

AGENCY: National Telecommunications and Information Administration.

ACTION: Notice.

SUMMARY: This notice provides guidance for manufacturers that intend to submit digital-to-analog converter boxes to the National Telecommunications and Information Administration (NTIA) for certification as part of the Digital-to-Analog Converter Box Coupon Program. This notice also provides address and contact information regarding the required submission of test results and sample equipment.

FOR FURTHER INFORMATION CONTACT: Art Wall, Technology Advisor, DTV Converter Coupon Program, awall@ntia.doc.gov, (410) 643-1649.

SUPPLEMENTARY INFORMATION: On March 15, 2007, NTIA published regulations to implement and administer a coupon program for digital-to-analog converter boxes. Under this program, U.S. households will be eligible to request up to two $40 coupons to be used toward the purchase of up to two digital-to-analog converter boxes.¹ Converter boxes are necessary for consumers who may wish to continue receiving broadcast programming over the air using analog-only televisions not connected to cable, satellite, or other pay television service after February 17, 2009 - - the date that full power television broadcasters are required to cease analog broadcasting.²

¹ See Rules to Implement and Administer a Coupon Program For Digital-to-Analog Converter Boxes (Final Rule), 72 FR 12097 (March 15, 2009).

² See Title III of the Deficit Reduction Act of 2005, Pub. L. 109-171, 120 Stat. 4, 21 (Feb. 8, 2006). Section 3002(a) of the Act amends Section 309(j)(14)(A) of the Communications Act of 1934 so that analog full-power television licenses will terminate on February 17, 2009. Section 3002(b) of the Act directs the FCC to terminate analog television licenses for full-power stations by February 18, 2009.

Among other purposes, the Final Rule specifies that manufacturers interested in participating in the coupon program must submit a Notice of Intent (NOI) to NTIA. The regulations provide the necessary information to include in the NOI and also provide technical specifications and features required for a converter box to qualify for the coupon program. The regulations also include specific instructions for manufacturers to submit test results along with a sample of the tested equipment to NTIA.³ The preamble to the regulations notes that NTIA has entered into an agreement with the Federal Communications Commission (FCC) whereby the FCC may review the manufacturers' test results and converter boxes if necessary.⁴ The preamble also notes that a subsequent Public Notice will provide manufacturers with specific address and contact information regarding the required submission of test results and sample equipment.⁵ Moreover, section 301.5(e) of the Final Rule states that NTIA may issue other guidance and test-bed conditions. Accordingly, this Notice provides the following information: (1) the Notice of Intent (NOI) submission; (2) testing guidance; (3) test report (format and content) guidance; (4) shipping of samples; and (5) NTIA processing.

³ 47 C.F.R. § 301.5.

⁴ See Final Rule at ¶ 101; see also 47 C.F.R. § 301.5(f).

⁵ Final Rule at ¶ 101.

The guidance information provided in this notice is not binding. Compliance with the requirements contained in the regulations may be demonstrated by following the suggestions contained in this document or by alternative means. Manufacturers intending to participate in the converter box coupon program should submit test results and sample equipment to NTIA in accordance with the guidelines specified below:

1. Notice of Intent

a. The NOI shall be submitted to NTIA at least three months prior to submission of the test report and samples pursuant to section 301.5(a) of the Final Rule. Accordingly, the NOI shall contain the following information: name, title, email and mailing address, and the phone number of an individual responsible for the manufacturer's submission; a brief description of the converter box, including permitted as well as required features; and the date on which the samples and test report for the proposed converter(s) may be ready for submission for review. The NOI shall be faxed to NTIA at (202) 482-4626 or delivered to: DTV Converter Coupon Program, Room 4809, NTIA/OTIA, U.S. Department of Commerce, Washington, D.C. 20230. The NOI will be kept business confidential pursuant to section 301.5(b) of the Final Rule. A NOI form is available on NTIA's web site at www.ntia.doc.gov.

b. Pursuant to section 301.5(c), NTIA will provide the manufacturer with shipping information in a letter of acknowledgement after NTIA receives the NOI. Subsequent to receipt of the acknowledgement, a written authorization for submitting the samples and test report will be electronically sent to the contact person listed in the NOI. See item 3(a), below, for electronically submitting the test report, and item 4, below, for shipping the samples.

2. Testing Guidance

a. Source Material: For the performance specifications in items 8 through 13 and item 15 of Technical Appendix 1 to the Final Rule, it is recommended that the tests be performed with a High Definition data stream (i.e., resolution of 720p or higher) with motion.

b. Field Ensembles (#14): NTIA encourages manufacturers to specify which 30 of the 50 field ensembles identified in ATSC A/74 were tested successfully.

c. Single Static Echo (#15): NTIA encourages manufacturers to specify whether the model was tested against Criteria A or Criteria B as defined in Technical Appendix 1. If Criteria B is chosen, manufacturers should identify which 37 of the 50 field ensembles were tested successfully.

d. Manufacturers submitting converters intended to comply with the EPA Energy Star Program — which is a permitted but not required specification for Coupon-Eligible Converter Boxes (CECBs) — should seek certification from EPA that the CECB meets all requirements for certification under the EPA program. The EPA requirements can be found at http://www.energystar.gov/index.cfm.

3. Test Report Guidance

a. When a manufacturer receives an authorization to submit the test report and samples pursuant to section 301.5(c), the test report is to be sent to Art Wall, Technical Advisor, at awall@ntia.doc.gov. To expedite processing, NTIA encourages applicants to submit the test report in an electronic format using Microsoft Word, pdf or jpg type files. Files larger than 5 Mbs should be divided into separate files of 2 Mbs or less, if possible. If a manufacturer is not able to provide test results electronically in the formats prescribed, the manufacturer should contact Art Wall, Technical Advisor at awall@ntia.doc.gov to make alternate arrangements.

b. NTIA encourages manufacturers to submit test reports that demonstrate that each model proposed to be a CECB meets all the performance specifications and features set forth in Technical Appendix 1 of the Final Rule as well as applicable FCC Rules.

c. Each model proposed may include “permitted” features but shall not include “disqualifying” features set forth in Technical Appendix 2 of the Final Rule, pursuant to section 301.5(d). If the proposed CECB includes permitted features, it would assist NTIA's evaluation if the test results or certificates document how those features operate or have been implemented.

d. To assist in NTIA's evaluation of the proposed CECB, NTIA encourages applicants to include in the test report information such as:

1. An operational description of each proposed CECB.

2. A final copy of the proposed manual that will be provided to the end user.

3. A list of equipment (complete with calibration data) used by the manufacturer when performing each of the required tests.

4. A block diagram showing all the major elements of each proposed CECB.

5. A block diagram depicting the equipment used and the measurement setup for each test.

6. Internal and external photographs of each proposed CECB. The photographs should be of sufficient clarity to show the make and model number on the label, the front panel controls, connection points on the back panel, internal components and circuit board layouts.

e. Pursuant to section 301.5(f), reports of test conditions and test results must be clear and comprehensive so that they can be easily interpreted by NTIA and others reviewing them. Moreover, in accordance with section 301.5(g), each test report shall include a certification of the testing supervisor as to its authenticity, completeness and accuracy based on personal knowledge. The manufacturer/applicant should also sign the report certifying that the sample tested is representative of production units.

4. Guidance for Shipping Proposed Coupon-Eligible Converter Box Samples

Manufacturers are to supply two production sample converter boxes pursuant to section 301.5(c) of the Final Rule. They are to be shipped as follows:

Test samples should NOT be shipped until the applicant receives a specific authorization from NTIA to ship. A copy of NTIA's shipping authorization identifying each model to be shipped shall accompany the samples.

Shipping Address: (Courier Service, Freight, or Air Service)

DTV Converter Coupon Program

FCC Laboratory

7435 Oakland Mills Road, Gate A

Columbia, MD 21046

Attention: Bill Hurst

Telephone: (301) 362-3000

Special note to foreign applicants— Foreign applicants with United States subsidiaries or agents should ship equipment to those facilities for forwarding to the Laboratory. If no American subsidiary is available, arrangements must be made for clearance of shipment through U. S. Customs and delivery to the FCC Laboratory. The U.S. Government will not make delivery arrangements or pay any related charges associated with shipments.

If the applicant requires notification that the samples have been received at the FCC Laboratory, the applicant should contact its shipper for delivery date confirmation.

Pursuant to the regulations, the samples for each proposed CECB shall be production line samples. Some characteristics that may assist NTIA in confirming production line samples are: a permanently attached label showing the make (manufacturer's name or trade name), serial number and model number. The label information (except for serial number) should agree with the information shown on the test report. Also, NTIA encourages applicants to include any accessory that would facilitate testing and any permitted accessory features proposed by the manufacturer, such as a 300 ohm connector, a cable with 3 female RCA connectors, etc.

NTIA does not intend to return the samples to the manufacturer/applicant.

5. NTIA Processing

The manufacturer's report of each proposed CECB will be reviewed for accuracy and completeness and to determine: (1) if the proposed model meets the performance specifications in Technical Appendix 1; (2) if the proposed CECB includes permitted features listed in Technical Appendix 2, that those features function properly; and (3) that the proposed CECB does not contain a disqualifying feature. NTIA/FCC testing will be performed on some or all of the models. The level of testing will be based on engineering judgments during the review of the test report. Request for additional information, if necessary, may cause delays in completing an evaluation of a proposed CECB. Reasonable attempts will be made to expedite review of each proposed CECB, but the applicant should not contact the Technical Advisor unless the applicant has a valid technical question.

Pursuant to section 301.5(h) of the Final Rule, NTIA will provide prompt notification to each manufacturer as to whether the model has met technical approval. NTIA will maintain a list of approved CECBs to distribute to consumers and participating retailers.

These procedures are intended to assist in managing the review and evaluation of each proposed CECB. Additional guidance on testing or submission procedures may be provided on NTIA web page under Frequently Asked Questions, pursuant to Section 301.5(e), www.ntia.doc.gov.

Questions about the procedure for submitting samples and test reports for review and approval may be submitted to:

Art Wall, Technical Advisor

DTV Converter Coupon Program

NTIA/OTIA Room 4809

U.S. Department of Commerce

Washington, D.C. 20230

Tel: (410) 643-1649

Fax: (202) 482-4626

Email: awall@ntia.doc.gov

Dated: May 23, 2007.
Kathy D. Smith,
Chief Counsel, National Telecommunications and Information Administration.

[FR Doc. E7-10282 Filed 5-29-07; 8:45 am]

BILLING CODE 3510-60-S